DEPARTMENT OF THE INTERIOR

National Park Service

National Register of Historic Places; Notification of Pending Nominations and Related Actions

Nominations for the following properties being considered for listing or related actions in the National Register were received by the National Park Service before October 2, 2010. Pursuant to section 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by November 10, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
National Register of Historic Places/National Historic Landmarks Program.

AMERICAN SAMOA

Western District

Governor H. Rex Lee Auditorium, Rte. 1, William McKinley Memorial HWY,Utulei, 10000888

CALIFORNIA

Humboldt County

Hoopa Valley Adobe, Campus St, Hoopa, 10000893

CONNECTICUT

Hartford County

Oxford—Whitney Streets Historic District, Fern, Oxford, and Whitney Sts, Hartford, 10000896

Underwood Computing Machine Company Factory, 56 Arbor St, Hartford, 10000895

DISTRICT OF COLUMBIA

District of Columbia

Atlas Theater and Shops, 1313-33 H Street, NE., Washington, DC, 10000909

Dahlgreen Courts, (Apartment Buildings in Washington, DC, MPS) 2504-2520 10th St, NE., Washington, 10000901

IOWA

Jasper County

Fred Maytag Park Historic District, 301 S 22th Ave., W, Newton, 10000917

Polk County

Hubbell Warehouse, 340 SW 5th St, Des Moines, 10000894

Story County

Delta Upsilon Chapter House, 117 Ash Ave., Ames, 10000919

Webster County

Fort Dodge Downtown Historic District, 1st Ave N, Central Ave, and 1st Ave., S from 3rd St., on West to 12th St., on East, Fort Dodge, 10000918

KENTUCKY

Breathitt County

Morris Fork Presbyterian Church and Community Center, 908 Morris Fork Rd, Morris Fork, 10000908

Fayette County

Headley, Hal Price, Sr., House, 1236 Standish Way, Lexington, 10000907

Jefferson County

Arcadia Apartments, 68 Apartments in the vicinity of Arcade and Utah Aves, Louisville, 10000906

Nelson County

Bardstown Historic District Boundary Increase, Generally bounded by First St., Fifth St., Muir Ave., Beall Ave., Maiden's Alley, Cherry Alley, Mulberry Alley, Bardstown, 10000905

Todd County

Woodstock, 6338 Clarksville Rd, Trenton, 10000904

LOUISIANA

Lincoln Parish

Harris Hotel Annex, The, 208 and 210 Park Ave., Ruston, 10000889

MARYLAND

Baltimore Independent City

Bohemian National Cemetery, 1300 Horners Lake, Baltimore, 10000910

MISSISSIPPI

Amite County

Westbrook Cotton Gin, 395 Gillsburg Rd, Liberty, 10000903

Harrison County

Cuevas Rural Historic District, Menge Ave running NS between Red Creek Rd and Fahrion Dr, Pass Christian, 10000902

NEW HAMPSHIRE

Merrimack County

Blossom Hill and Calvary Cemeteries, N State St, Concord, 10000891

NEW JERSEY

Warren County

Finesville—Seigletown Historic District, County Rte 627; Mountain, Musconetcong, Mt. Joy and Bellis Rds, Pohatcong, 10000892

NEW YORK

Chemung County

Brand, John, Sr., House, 405 Maple Ave, Elmira, 10000913

Columbia County

Van Salsbergen House, 333 Joslen Blvd, Hudson, 10000915

Herkimer County

Thendara Historic District, Roughly bounded by Birch St and Forge St, Old Forge, 10000897

Monroe County

East Side Presbyterian Church, 345 Parsells Ave, Rochester, 10000898

Queens County

Saint Luke's Episcopal Church, 85 Greenway South, Forest Hills, 10000900

Richmond County

Stirn, Louis A. and Laura, House, 79 Howard Ave, Staten Island, 10000899

St. Lawrence County

First Congregational Church of Madrid, 6 Cross St; 32 Main St, Madrid, 10000914

Suffolk County

Winganhauppauge, 77 St. Marks Ln, Islip, 10000912

Ulster County

Christ Episcopal Church, 426 Old Post Rd, Marlboro, 10000916

VERMONT

Caledonia County

Darling Estate Historic District, Darling Hill Rd in Burke and Lyndon; Pinkham Rd in Burke, Burke, 10000911

Chittenden County

Peck, Cicero Goddard, House, 18 Mechanicsville Rd, Hinesburg, 10000890

[FR Doc. 2010-27057 Filed 10-25-10; 8:45 am]

BILLING CODE 4312-51-P